SUSQUEHANNA RIVER BASIN COMMISSION

Notice of Actions Taken at September 11, 2008, Meeting; Correction

AGENCY: Susquehanna River Basin Commission.

ACTION: Notice of Commission Actions; correction.

SUMMARY: The Susquehanna River Basin Commission published a document in the Federal Register of October 1, 2008, concerning notice of project review actions taken at its September 11, 2008, meeting. The document contained certain discrepancies in the originally published list.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

Correction

In the Federal Register of October 1, 2008, in FR Doc. 73-191, on page 57191, in the first column, under SUPPLEMENTARY INFORMATION, correct the “Public Hearing—Projects Approved” caption, and on page 57192, in the third column, correct the “Public Hearing—Projects Tabled” caption to read:

Public Hearing—Projects Approved

1. Project Sponsor and Facility: East Resources, Inc. (Seeley Creek), Town of Southport, Chemung County, N.Y. Surface water withdrawal of up to 0.036 mgd.

2. Project Sponsor and Facility: Chesapeake Appalachia, LLC (for operations in Chemung and Tioga Counties, N.Y., and Bradford, Susquehanna, and Wyoming Counties, Pa.). Consumptive water use of up to 2.075 mgd from various surface water sources and the following public water suppliers: Towanda Municipal Authority, Aqua Pennsylvania, Inc.—Susquehanna Division, Canton Borough Authority, Borough of Troy, and Village of Horseheads, N.Y.

3. Project Sponsor and Facility: Chesapeake Appalachia, LLC (Susquehanna River), Town of Tioga, Tioga County, N.Y. Surface water withdrawal of up to 0.999 mgd.

4. Project Sponsor and Facility: Cabot Oil & Gas Corporation (for operations in Susquehanna and Wyoming Counties, Pa.). Consumptive water use of up to 3.575 mgd from various surface water sources and the following public water suppliers: Tunkhannock Borough Municipal Authority, Pennsylvania American Water Company—Montrose System, and Meshoppen Borough Council.

5. Project Sponsor and Facility: Cabot Oil & Gas Corporation (Susquehanna River), Great Bend Borough, Susquehanna County, Pa. Surface water withdrawal of up to 0.720 mgd.

6. Project Sponsor and Facility: Chesapeake Appalachia, LLC (Susquehanna River), Athens Township, Bradford County, Pa. Surface water withdrawal of up to 0.999 mgd.

7. Project Sponsor and Facility: Chesapeake Appalachia, LLC (Susquehanna River), Oakland Township, Susquehanna County, Pa. Surface water withdrawal of up to 0.999 mgd.

8. Project Sponsor and Facility: Cabot Oil & Gas Corporation (Susquehanna River), Susquehanna Depot Borough, Susquehanna County, Pa. Surface water withdrawal of up to 0.720 mgd.

9. Project Sponsor and Facility: Fortuna Energy Inc. (Susquehanna River), Sheshequin Township, Bradford County, Pa. Surface water withdrawal of up to 0.250 mgd.

10. Project Sponsor and Facility: East Resources, Inc. (Crooked Creek), Middlebury Township, Tioga County, Pa. Surface water withdrawal of up to 0.036 mgd.

11. Project Sponsor and Facility: Chief Oil & Gas, LLC (for operations in Bradford County, Pa.). Consumptive use of water of up to 5.000 mgd.

12. Project Sponsor and Facility: Chesapeake Appalachia, LLC (Susquehanna River), Wysox Township, Bradford County, Pa. Surface water withdrawal of up to 0.999 mgd.

13. Project Sponsor and Facility: Cabot Oil & Gas Corporation (Martins Creek), Lathrop Township, Susquehanna County, Pa. Surface water withdrawal of up to 0.074 mgd.

14. Project Sponsor and Facility: Cabot Oil & Gas Corporation (Tunkhannock Creek), Lenox Township, Susquehanna County, Pa. Surface water withdrawal of up to 0.250 mgd.

15. Project Sponsor and Facility: Cabot Oil & Gas Corporation (Meshoppen Creek-2), Lemon Township, Wyoming County, Pa. Surface water withdrawal of up to 0.054 mgd.

16. Project Sponsor and Facility: Cabot Oil & Gas Corporation (Meshoppen Creek-1), Lemon Township, Wyoming County, Pa. Surface water withdrawal of up to 0.054 mgd.

17. Project Sponsor and Facility: Pennsylvania General Energy Company, LLC (operations in Potter and McKean Counties, Pa.). Consumptive water use of up to 4.900 mgd from various surface water sources and the following public water suppliers: Galeton Borough Authority and Austin Borough Water.

18. Project Sponsor and Facility: Pennsylvania General Energy Company, LLC (East Fork of Sinnemahoning Creek—Horton), East Fork Township, Potter County, Pa. Surface water withdrawal of up to 0.008 mgd.

19. Project Sponsor and Facility: Chesapeake Appalachia, LLC (Susquehanna River), Mehoopany Township, Wyoming County, Pa. Surface water withdrawal of up to 0.999 mgd.

20. Project Sponsor and Facility: Pennsylvania General Energy Company, LLC (First Fork of Sinnemahoning Creek—Costello), Sylvania Township, Potter County, Pa. Surface water withdrawal of up to 0.107 mgd.

21. Project Sponsor and Facility: Pennsylvania General Energy Company, LLC (East Fork of Sinnemahoning Creek—East Fork), East Fork Township, Potter County, Pa. Surface water withdrawal of up to 0.025 mgd.

22. Project Sponsor and Facility: Pennsylvania General Energy Company, LLC (East Fork of Sinnemahoning Creek—Purdy), Wharton Township, Potter County, Pa. Surface water withdrawal of up to 0.027 mgd.

23. Project Sponsor and Facility: Cabot Oil & Gas Corporation (Susquehanna River), Tunkhannock Township, Wyoming County, Pa. Surface water withdrawal of up to 0.720 mgd.

24. Project Sponsor and Facility: Pennsylvania General Energy Company, LLC (First Fork of Sinnemahoning Creek—Mahon), Wharton Township, Potter County, Pa. Surface water withdrawal of up to 0.231 mgd.

25. Project Sponsor and Facility: Cabot Oil & Gas Corporation (Bowmans Creek), Eaton Township, Wyoming County, Pa. Surface water withdrawal of up to 0.290 mgd.

26. Project Sponsor and Facility: PEI Power Corporation, Borough of Archbald, Lackawanna County, Pa. Consumptive water use and surface water withdrawal approval (Docket No. 20010406) for addition of up to 0.530 mgd from a public water supplier as a secondary supply source, and settlement of an outstanding compliance matter.

27. Project Sponsor and Facility: Neptune Industries, Inc. (Lackawanna River), Borough of Archbald, Lackawanna County, Pa. Surface water withdrawal of up to 0.499 mgd.

28. Project Sponsor and Facility: Range Resources—Appalachia, LLC (for operations in Bradford, Centre, Clinton, Lycoming, Sullivan, and Tioga Counties, Pa.). Consumptive water use of up to 5.000 mgd from various surface water sources and the following public water suppliers: Jersey Shore Joint Water Authority, Williamsport Municipal Water Authority, City of Lock Haven Water Department, Borough of Bellefonte, Borough of Montoursville, Milesburg Water System, and Towanda Municipal Authority.

29. Project Sponsor and Facility: Range Resources—Appalachia, LLC (Lycoming Creek-2), Lewis Township, Lycoming County, Pa. Surface water withdrawal of up to 0.200 mgd.

30. Project Sponsor and Facility: Range Resources—Appalachia, LLC (Lycoming Creek-1), Hepburn Township, Lycoming County, Pa. Surface water withdrawal of up to 0.200 mgd.

31. Project Sponsor and Facility: Chief Oil & Gas, LLC (for operations in Lycoming County, Pa.). Consumptive water use of up to 5.000 mgd from various surface water sources and the following public water suppliers: Jersey Shore Joint Water Authority, Williamsport Municipal Water Authority, Borough of Montoursville, and Towanda Municipal Authority.

32. Project Sponsor and Facility: Chief Oil & Gas, LLC (Muncy Creek-2), Penn Township, Lycoming County, Pa. Surface water withdrawal of up to 0.099 mgd.

33. Project Sponsor and Facility: Chief Oil & Gas, LLC (Larrys Creek), Mifflin Township, Lycoming County, Pa. Surface water withdrawal of up to 0.086 mgd.

34. Project Sponsor and Facility: Chief Oil & Gas, LLC (Muncy Creek-1), Picture Rocks Borough, Lycoming County, Pa. Surface water withdrawal of up to 0.099 mgd.

35. Project Sponsor and Facility: Chief Oil & Gas, LLC (Loyalsock Creek), Montoursville Borough, Lycoming County, Pa. Surface water withdrawal of up to 0.099 mgd.

36. Project Sponsor and Facility: Range Resources—Appalachia, LLC (West Branch Susquehanna River), Colebrook Township, Lycoming County, Pa. Surface water withdrawal of up to 0.200 mgd.

37. Project Sponsor and Facility: Rex Energy Corporation (for operations in Centre and Clearfield Counties, Pa.). Consumptive water use of up to 5.000 mgd from various surface water sources and the following public water supplier: Clearfield Municipal Authority.

38. Project Sponsor and Facility: Rex Energy Corporation (West Branch Susquehanna River), Goshen Township, Clearfield County, Pa. Surface water withdrawal of up to 2.160 mgd.

39. Project Sponsor and Facility: Range Resources—Appalachia, LLC (Beech Creek), Snow Shoe Township, Centre County, Pa. Surface water withdrawal of up to 0.200 mgd.

40. Project Sponsor and Facility: Rex Energy Corporation (Moshannon Creek), Snow Shoe Township, Centre County, Pa. Surface water withdrawal of up to 2.000 mgd.

41. Project Sponsor and Facility: Rex Energy Corporation (Moshannon Creek Outfall), Rush Township, Centre County, Pa. Surface water withdrawal of up to 1.584 mgd.

42. Project Sponsor and Facility: Rex Energy Corporation (Moshannon Creek—Peale), Rush Township, Centre County, Pa. Surface water withdrawal of up to 1.440 mgd.

43. Project Sponsor: Suez Energy North America, Inc. Project Facility: Viking Energy of Northumberland, Point Township, Northumberland County, Pa. Groundwater withdrawal of 0.391 mgd and consumptive water use of up to 0.387 mgd.

44. Project Sponsor: New Enterprise Stone & Lime Co., Inc. Project Facility: Tyrone Quarry, Warriors Mark Township, Huntingdon County, and Snyder Township, Blair County, Pa. Consumptive water use of up to 0.294 mgd; groundwater withdrawals of 0.095 mgd from Well 1, 0.006 mgd from Well 2, 0.050 mgd from Well 3, 0.010 mgd from Well 4, and 0.0003 mgd from Well 5; and surface water withdrawals of up to 0.200 mgd from Logan Spring Run and up to 0.216 mgd from the Little Juanita River.

45. Project Sponsor and Facility: Papetti's Hygrade Egg Products, Inc., d.b.a. Michael Foods Egg Products Co., Upper Mahantango Township, Schuylkill County, Pa. Consumptive water use of up to 0.225 mgd; groundwater withdrawals of 0.266 mgd from Well 1, 0.079 mgd from Well 2, and 0.350 mgd from Well 3; and a total system withdrawal limit of 0.350 mgd.

46. Project Sponsor: Old Castle Materials, Inc. Project Facility: Pennsy Supply, Inc.—Hummelstown Quarry, South Hanover Township, Dauphin County, Pa. Surface water withdrawal of up to 29.000 mgd.

47. Project Sponsor and Facility: Dart Container Corporation of Pennsylvania, Upper Leacock Township, Lancaster County, Pa. Groundwater withdrawals of 0.144 mgd from Well 4 and 0.058 mgd from Well 12; and a total system withdrawal limit of 0.367 mgd.

48. Project Sponsor: East Berlin Area Joint Authority. Project Facility: Buttercup Farms, Hamilton Township, Adams County, Pa. Groundwater withdrawals (30-day averages) of 0.130 mgd from Well TW-1 and 0.029 mgd from Well TW-2.

Public Hearing—Projects Tabled

1. Project Sponsor and Facility: Chief Oil & Gas, LLC (Sugar Creek), West Burlington Township, Bradford County, Pa. Application for surface water withdrawal of up to 0.053 mgd.

2. Project Sponsor and Facility: Fortuna Energy Inc. (Sugar Creek), West Burlington Township, Bradford County, Pa. Application for surface water withdrawal of up to 0.033 mgd.

3. Project Sponsor and Facility: Fortuna Energy Inc. (Towanda Creek), Franklin Township, Bradford County, Pa. Application for surface water withdrawal of up to 0.093 mgd.

4. Project Sponsor and Facility: Chief Oil & Gas, LLC (Pine Creek), Cummings Township, Lycoming County, Pa. Application for surface water withdrawal of up to 0.099 mgd.

5. Project Sponsor and Facility: Rex Energy Corporation (Upper Little Surveyor Run), Girard Township, Clearfield County, Pa. Application for surface water withdrawal of up to 0.400 mgd.

6. Project Sponsor and Facility: Rex Energy Corporation (Lower Little Surveyor Run), Girard Township, Clearfield County, Pa. Application for surface water withdrawal of up to 0.400 mgd.

Authority: Public Law 91-575, 84 Stat. 1509 et seq., 18 CFR Parts 806, 807, and 808.

Dated: January 9, 2009.
Thomas W. Beauduy,
Deputy Director.

[FR Doc. E9-1630 Filed 1-26-09; 8:45 am]

BILLING CODE 7040-01-P